DEPARTMENT OF COMMERCE

Foreign-Trade Zones Board

[B-38-2019]

Foreign-Trade Zone (FTZ) 38—Spartanburg County, South Carolina; Authorization of Limited Production Activity; Teijin Carbon Fibers, Inc. (Polyacrylonitrile-Based Carbon Fiber); Greenwood, South Carolina

On June 7, 2019, the South Carolina State Ports Authority, grantee of FTZ 38, submitted a notification of proposed production activity to the FTZ Board on behalf of Teijin Carbon Fibers, Inc., within FTZ 38, in Greenwood, South Carolina.

The notification was processed in accordance with the regulations of the FTZ Board (15 CFR part 400), including notice in the Federal Register inviting public comment (84 FR 29496, June 24, 2019). On October 7, 2019, the applicant was notified of the FTZ Board's decision that further review of part of the proposed activity is warranted. The FTZ Board authorized the production activity described in the notification on a limited basis, subject to the FTZ Act and the Board's regulations, including Section 400.14, and further subject to a restriction requiring that all foreign-status polyacrylonitrile (PAN) fiber admitted for production activity must be re-exported (entry for U.S. consumption is not authorized).

Dated: October 7, 2019.
Andrew McGilvray,
Executive Secretary.

[FR Doc. 2019-22309 Filed 10-10-19; 8:45 am]

BILLING CODE 3510-DS-P